FEDERAL COMMUNICATIONS COMMISSION

47 CFR Chapter 1

[WT Docket No. 99-217; CC Docket No. 96-98; DA 07-1485]

Parties Asked To Refresh Record Regarding Promotion of Competitive Networks in Local Telecommunications Markets

AGENCY: Federal Communications Commission.

ACTION: Proposed rule.

SUMMARY: This document invites interested parties to update the record pertaining to issues raised in the Commission's Competitive Networks proceeding in light of marketplace and industry developments.

DATES: Comments due on or before July 30, 2007, reply comments due on or before August 28, 2007.

ADDRESSES: All filings must be addressed to the Commission's Secretary, Marlene H. Dortch , Office of the Secretary, Federal Communications Commission, Room 5-A266, 445 12th Street, SW., Washington, DC. Comments may be submitted, identified by WT Docket No. 99-217 and CC Docket No. 96-98, by any of the following methods:

• Federal eRulemaking Portal: http://www.regulations.gov. Follow the instructions for submitting comments.

• Agency Web site: http://www.fcc.gov. Follow the instructions for submitting comments on the Electronic Comment Filing System (ECFS): http://www.fcc.gov/cgb/ecfs/.

• E-mail: To jeremy.miller@fcc.gov. Include WT Docket No. 99-217 and CC Docket No. 96-98 in the subject line of the message.

• Fax: To the attention of Jeremy Miller at 202-418-1413. Include WT Docket No. 99-217 and CC Docket No. 96-98 on the cover page.

• Mail: Parties should send a copy of their filings to Jeremy Miller, Competition Policy Division, Wireline Competition Bureau, Federal Communications Commission, Room 5-B145, 445 12th Street, SW., Washington, DC 20554.

• Public inspection, purchase, or download: The full text of the document summarized here is available for inspection and copying during normal business hours in the FCC Reference Center, Portals II, 225 12th Street, SW., Room CY-A257, Washington, DC 20504. The complete text of this document also may be purchased from the Commission's copy contractor, Best Copy and Printing, Inc., 445 12th Street, SW., Room CY-B402, Washington, DC 20554, and may also be downloaded at: http://www.fcc.gov.

People with Disabilities: To request materials in accessible formats for people with disabilities (braille, large print, electronic files, audio format), send an e-mail to fcc504@fcc.gov or call the Consumer & Governmental Affairs Bureau at 202-418-0530 (voice), 202-418-0432 (tty).

Instructions: All submissions received must include the agency name and docket number. All comments received will be posted without change to http://www.fcc.gov/cgb/ecfs/, including any personal information provided. For detailed instructions on submitting comments and additional information on the rulemaking process, see the “Comment Filing Procedures” heading of the SUPPLEMENTARY INFORMATION section of this document.

FOR FURTHER INFORMATION CONTACT: Jeremy Miller, Wireline Competition Bureau, Competition Policy Division, (202) 418-1580.

SUPPLEMENTARY INFORMATION: This is a summary of the Commission's document in WT Docket No. 99-217 and CC Docket No. 96-98, DA No. 07-1485, released March 28, 2007. The full text of this document is available for inspection and copying during normal business hours in the FCC Reference Center, Portals II, 445 12th Street, SW., Room CY-A257, Washington, DC 20554. The complete text of this document also may be purchased from the Commission's copy contractor, Best Copy and Printing, Inc., 445 12th Street, SW., Room CY-B402, Washington, DC 20554. The full text may also be downloaded at: http://www.fcc.gov. By this document, the Commission establishes comment and reply comment filing dates for receiving updated comments and refreshing the record on a Further Notice of Proposed Rulemaking addressing the status of the market for the provision of telecommunications services in Multiple Tenant Environments (MTEs), and on whether the prohibition on exclusive access contracts in commercial MTEs should be extended to residential MTEs. The filing dates established replace filing dates previously established in the Competitive Networks Further Notice of Proposed Rulemaking, DA 01-750, 66 FR 2322, January 11, 2001, released by the Commission on October 25, 2000. The proceeding for which the Commission seeks to refresh the record is intended to enable the Commission to undertake appropriate review of the status of the deployment of competitive and advanced telecommunications services in MTEs, and to determine whether additional action is necessary to address the ability of premises owners to discriminate unreasonably among competing telecommunications service providers.

Interested parties may file comments on or before July 30, 2007 and reply comments on or before August 28, 2007. Comments may be filed using the Commission's Electronic Comment Filing System (ECFS) or by filing paper copies. Comments filed through the ECFS can be sent as an electronic file via the Internet to http://www.fcc.gov/cgb/ecfs/. Generally, only one copy of an electronic submission must be filed. If multiple docket or rulemaking numbers appear in the caption of the proceeding, commenters must transmit one electronic copy of the comments to each docket or rulemaking number referenced in the caption. In completing the transmittal screen, commenters should include their full name, U.S. Postal Service mailing address, and the applicable docket or rulemaking number, in this case, WT Docket No. 99-217 and CC Docket No. 96-98. Parties may also submit an electronic comment by Internet e-mail. To get filing instructions for e-mail comments, commenters should send an e-mail to ecfs@fcc.gov, and should include the following words in the body of the message, “get form.” A sample form and directions will be sent in response. Parties who choose to file by paper must file an original and four copies of each filing. If more than one docket or rulemaking number appears in the caption of this proceeding, commenters must submit two additional copies for each additional docket or rulemaking number.

Paper filings can be sent by hand or messenger delivery, by commercial overnight courier, or by first-class or overnight U.S. Postal Service mail (although we continue to experience delays in receiving U.S. Postal Service mail). Parties are strongly encouraged to file comments electronically using the Commission's ECFS.

The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554.

All filings must be addressed to the Commission's Secretary, Marlene H. Dortch, Office of the Secretary, Federal Communications Commission, 445 12th Street, SW., Washington, DC 20554. Parties should also send a copy of their filings to Jeremy Miller, Competitive Policy Division, Wireline Competition Bureau, Federal Communications Commission, Room 5-B145, 445 12th Street, SW., Washington, DC 20554, or by e-mail to Jeremy.Miller@fcc.gov. Parties shall also serve one copy with the Commission's copy contractor, Best Copy and Printing, Inc. (BCPI), Portals II, 445 12th Street, SW., Room CY-B402, Washington, DC 20554, (202) 488-5300, or via e-mail to fcc@bcpiweb.com.

Documents in WT Docket No. 99-217 and CC Docket No. 96-98 will be available for public inspection and copying during business hours at the FCC Reference Information Center, Portals II, 445 12th Street, SW., Room CY-A257, Washington, DC 20554. The documents may also be purchased from BCPI, telephone (202) 488-5300, facsimile (202) 488-5563, TTY (202) 488-5562, e-mail fcc@bcpiweb.com.

To request materials in accessible formats for people with disabilities (braille, large print, electronic files, audio format), send an e-mail to fcc504@fcc.gov or call the Consumer & Governmental Affairs Bureau at 202-418-0530 (voice), 202-418-0432 (tty).

This matter shall be treated as a “permit-but-disclose” proceeding in accordance with the Commission's ex parte rules. 47 CFR 1.1200 et seq. Persons making oral ex parte presentations are reminded that memoranda summarizing the presentations must contain summaries of the substance of the presentations and not merely a listing of the subjects discussed. More than a one-or two-sentence description of the views and arguments presented generally is required. 47 CFR 1.1206(b)(2). Other requirements pertaining to oral and written presentations are set forth in § 1.1206(b) of the Commission's rules. 47 CFR 1.1206(b).

Federal Communications Commission.
Kirk S. Burgee,
Chief of Staff, Wireline Competition Bureau.

[FR Doc. E7-10078 Filed 5-29-07; 8:45 am]

BILLING CODE 6712-01-P